DEPARTMENT OF DEFENSE

Office of the Secretary

Defense Science Board

AGENCY: Department of Defense.

ACTION: Notice of advisory committee meetings.

SUMMARY: The Defense Science Board Task Force on Transition to and from Hostilities (2004 Summer Study) will meet in closed session on February 20, 2004; March 23, 2004; April 19, 2004; May 7, 2004; June 9, 2004; and July 19, 2004, in Arlington, VA (exact location to be determined).

The mission of the Defense Science Board is to advise the Secretary of Defense and the Under Secretary of Defense for Acquisition, Technology & Logistics on scientific and technical matters as they affect the perceived needs of the Department of Defense. At these meetings, the Defense Science Board Task Force will focus on: (1) Understanding and shaping the environment: the gathering of long-lead intelligence and effective preparation of the battlefield—in the absence of an immediate threat; (2) Force protection during transition: in the transition to the post hostilities phase the forces become much more stationary, which makes them easier targets for residual resistance. What technologies, tactics and procedures can provide force protection in an almost instantaneous transformation from maneuver warfare to a garrison force charged with establishing order; (3) Disarmament and destruction of munitions stocks: what capabilities are needed to address disposal, as well as environmental and security issues associated with these unwanted devices; (4) Intelligence exploitation in the aftermath: rapid, decisive battlefield victory can produce a rich vein of captured documents, materiel, and human sources, but their exploitation, today, is personnel-intensive and requires good language skills coupled with substantive and cultural understanding. What approaches can more swiftly and economically process said collection? (5) Stabilizing the civilian population: There will be inevitable need to address problems of refugees and displaced persons, mortuary assistance, food supply, housing and health care. DoD will likely be charged with these challenges: what preparation, training and technology can be applied to facilitate these elements of infrastructure? (6) Re-establishing the rule of law: One important step in establishing order is the need to reconstitute a constabulary force. Improvements are needed in our methods for vetting applicants, tracking them and their behavior, and avoiding friendly fire incidents between them and our own forces. Improved technologies are desirable for their selection, training, and interoperability with US forces. (7) Rapid rebuilding of basic infrastructure: this requires reliable communications and interim power and potable water sources. How rapidly can these be inserted? Might there be opportunity for establishing subsequent monitoring capabilities? In accordance with section 10(d) of the Federal Advisory Committee Act, Pub. L. 92-463, as amended (5 U.S.C. App. II), it has been determined that these Defense Science Board Task Force meetings concern matters listed in 5 U.S.C. 552b(c)(1) and that, accordingly, these meetings will be closed to the public.

Dated: January 23, 2004.
Patricia Toppings,
Alternate OSD Federal Register Liaison Officer, Department of Defense.

[FR Doc. 04-2035 Filed 1-30-04; 8:45 am]

BILLING CODE 5001-06-M